DEPARTMENT OF TRANSPORTATION

Federal Aviation Administration

[Summary Notice No. PE-2005-45]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Kenna Sinclair (425-227-1556), Transport Airplane Directorate (ANM-113), Federal Aviation Administration, 1601 Lind Ave SW., Renton, WA 98055-4056; or John Linsenmeyer (202-267-5174), Office of Rulemaking (ARM-1), Federal Aviation Administration, 800 Independence Avenue, SW., Washington, DC 20591.

Issued in Washington, DC, on August 9, 2005.
Anthony F. Fazio,
Director, Office of Rulemaking.

Disposition of Petitions

Docket No.: FAA-2005-21288.

Petitioner: Israel Aircraft Industries, Ltd.

Sections of 14 CFR Affected: 14 CFR 25.785(j), 25.857(e), and 25.1447(c)(1).

Description of Relief Sought/Disposition: Carriage of eight supernumeraries on the upper deck of Boeing Model 747-400 Special Freighter (SF) airplanes, use of portable oxygen bottles in lieu of self-presenting oxygen masks, and relief from hand hold requirements.

Partial Grant of Exemption, 07/19/2005, Exemption No. 8587

Docket No.: FAA-2004-18657.

Petitioner: The Boeing Company.

Sections of 14 CFR Affected: 14 CFR 25.807(c) and 25.857(e).

Description of Relief Sought/Disposition: Carriage of 20 supernumeraries on the upper deck of Boeing Model 747-400 Special Freighter (SF) airplanes while maintaining a Class E cargo compartment on the main deck.

Grant of Exemption, 07/27/2005, Exemption No. 8590

[FR Doc. 05-16231 Filed 8-16-05; 8:45 am]

BILLING CODE 4910-13-P